DEPARTMENT OF AGRICULTURE

Forest Service

Blue Mountain Land Exchange; Malheur, Umatilla, and Wallowa-Whitman National Forests; Baker, Grant, Morrow, Umatilla, Union, Wallowa, and Wheeler Counties, Oregon

AGENCY: Forest Service, USDA.

ACTION: Notice of intent to prepare an environmental impact statement.

SUMMARY: The Forest Service, USDA will prepare an environmental impact statement on a proposal to exchange lands with Clearwater Land Exchange-Oregon. Clearwater is acting as a third-party facilitator for multiple non-federal landowners. The environmental impact statement will analyze the proposed exchange of approximately 20,570 acres of federal lands for approximately 36,370 acres of non-federal lands in the vicinity of the Blue Mountains Province of Northeast Oregon. The federal and non-federal lands proposed for exchange are located in Baker, Grant, Morrow, Umatilla, Union, Wallowa, and Wheeler Counties of Northeast Oregon. The affected Forest Service units are the Blue Mountain and Prairie City Ranger Districts of the Malheur National Forest; the Heppner, North Fork John Day, Pomeroy, and Walla Walla Ranger Districts of the Umatilla National Forest; and the Eagle Cap, LaGrande, Pine, Unity, and Wallowa Valley Ranger Districts and the Hells Canyon National Recreation Area of the Wallowa-Whitman National Forest. Implementation of the proposed exchange is scheduled for January 2004. The Malheur, Umatilla, and Wallowa-Whitman National Forrest Supervisors invite the public to submit comments on their proposal and suggestions on the scope of the proposed exchange. The Forest Supervisors also invite the public to participate in the environmental analysis and decision-making process for the proposed exchange of lands.

DATES: In order to maintain the estimated schedule for completing the final environmental impact statement, comments about the proposed exchange and the scope of the analysis should be received by September 13, 2002. Written comments are preferable, but oral comments will also be accepted. The draft environmental impact statement is scheduled for availability in June 2003, and the final environmental impact statement is expected to be available in October 2003.

ADDRESSES: Written comments or requests for information about this proposal should be addressed to Linda Vore, Supervisory Realty Specialist, Wallowa-Whitman National Forest, PO Box 907, Baker City, OR 97814. Oral comments may be conveyed to Linda Vore in person at the Wallowa-Whitman National Forest, 1550 Dewey Avenue, Baker City, Oregon; or by telephone at 541-523-1249.

FOR FURTHER INFORMATION CONTACT: Linda Vore, Supervisory Realty Specialist, PO Box 907, Baker City, OR 97814; Telephone 541-523-1249.

SUPPLEMENTARY INFORMATION:

Purpose and Need for Action

The proposal to exchange lands in the Blue Mountain Province of Northeast Oregon responds to the Forest Service's need for consolidation of federal land ownership patterns in the Malheur, Umatilla, and Wallowa-Whitman National Forests. The consolidation of federal ownership allows the Forest Service to enhance the management of the public's natural resources by acquiring lands that (1) facilitate public access to present federal lands, (2) protect habitat for several threatened, endangered, and sensitive species, (3) improve wetlands, floodplains, and riparian areas, (4) preserve segments of the Imnaha, Lostine, Eagle Creek, and North Fork John Day Wild and Scenic Rivers, (5) convert ownership within the Eagle Cap, Hells Canyon, and Wenaha-Tucannon Wildernesses and the Hells Canyon National Recreation Area, (6) decrease the complexity of maintaining property boundaries, (7) reduce the number of access permits to private inholdings, and (8) improve the efficiency of resource management by focusing the Forests' funding and staff on consolidated ownerships.

Proposed Action

The Forest Supervisors propose to exchange approximately 20,570 acres of federal lands for approximately 36,370 acres of non-federal lands in the vicinity of the Blue Mountains Province of Northeastern Oregon. The federal and non-federal lands proposed for exchange are located in Baker, Grant, Morrow, Umatilla, Union, Wallowa, and Wheeler Counties of Northeast Oregon. The affected Forest Service units are the Blue Mountain and Prairie City Ranger Districts of the Malheur National Forest; the Heppner, North Fork John Day, Pomeroy, and Walla Walla Ranger Districts of the Umatilla National Forest; and the Eagle Cap, LaGrande, Pine, Unity, and Wallowa Valley Ranger Districts and the Hells Canyon National Recreation Area of the Wallowa-Whitman National Forest. All of the parcels proposed for exchange are located within the geographic area of ceded lands and/or areas of interest of the Burns Paiute Tribes, the Nez Perce Tribe, the Confederated Tribes of the Umatilla Reservation, or the Confederated Tribes of the Warm Springs Reservation. All acreages in this proposal are approximate.

The United States of America would convey fee title to Clearwater Land Exchange-Oregon for parcels totaling approximately 20,570 acres throughout Baker, Grant, Morrow, Umatilla, Union, and Wallowa counties in the State of Oregon. Approximately 40 acres of these parcels are in Baker County in the vicinity of South Fork Burnt River in the Wallowa-Whitman National Forest. Approximately 6,090 acres of these parcels are in Grant County in the vicinity of Deer Creek (2,400 acres), Bear Creek (3,170 acres), Beech Creek (70 acres), Jeff Davis Creek (120 acres), and Thompson Gulch (20 acres) in the Malheur National Forest and in the vicinity of Rains Canyon (150 acres) and Bully Creek (160 acres) in the Umatilla National Forest. Approximately 380 acres of these parcels are in Morrow County in the vicinity of Willow Creek (220 acres) and Butler Creek (160 acres) in the Umatilla National Forest. Approximately 6,670 acres of these parcels are in Umatilla County in the vicinity of Meacham Creek (3,600 acres), Cooper Creek (1,800 acres), Swiss Flat (320 acres), Snipe Creek (150 acres), Wilkins Creek (200 acres), Deerhorn Creek (80 acres), California Gulch (40 acres), Pearson Creek (110 acres), and butcher Creek (370 acres) in the Umatilla National Forest. Approximately 400 acres of these parcels are in Union County in the vicinity of Sullivan creek in the Wallowa-Whitman National Forest. Approximately 6,990 acres of these parcels are in Wallowa County in the vicinity of Water Canyon (30 acres), Big Canyon (40 acres), Big Sheep Creek (1,900 acres), Imnaha River (1,740 acres), Powwatka Ridge (1,760 acres), Big Flat (120 acres), McCoy Flat (80 acres), Lostine River (40 acres), Spring Creek (120 acres), Prairie Creek (280 acres), Carrol Creek (680 acres), and Summit Creek (200 acres) in the Wallowa-Whitman National Forest.

Clearwater Land Exchange-Oregon would convey fee title to the United States of America for parcels totaling approximately 36,370 acres throughout Baker, Grant, Morrow, Umatilla, Union, Wallowa, and Wheeler counties in the State of Oregon. Approximately 320 acres of these parcels are in Baker County in the vicinity of Eagle Creek in the Wallowa-Whitman National Forest. Approximately 10,660 acres of these parcels are in Grant County in the vicinity of Aldrich Mountain (200 acres), Crazy Creek (640 acres), Deer Creek (160 acres), West Fork Deer Creek (400 acres), Murderers Creek (630 acres), Birch Creek (480 acres), Lewis Officer Creek (40 acres), Beech Creek (2440 acres), Clear Creek (1,110 acres), Four Corners (120 acres), Bridge Creek (40 acres), Phipps Meadow (280 acres), Bridge Creek Meadow (160 acres), and Wallowa Spring (30 acres) in the Malheur National Forest; in the vicinity of Wilson Prairie (2,250 acres), Happy Jack Creek (480 acres), Bologna Basin (200 acres), Rains Canyon (120 acres), Patterson Basin (400 acres), North Fork John Day River (270 acres), Deep Creek (50 acres), and Trout Meadows (110 acres) in the Umatilla National Forest; and in the vicinity of Trout Creek (50 acres) in the Wallowa-Whitman National Forest. Approximately 160 acres of these parcels are in Morrow County in the vicinity of Matlock Creek in the Umatilla National Forest. Approximately 8,120 acres of these parcels are in Umatilla County in the vicinity of Meacham Creek (2,900 acres), Owens Creek (480 acres), North Fork John Day River (1,900 acres), Bear Wallow Creek (320 acres), Camp Creek (1,880 acres), and Camas Creek (640 acres) in the Umatilla National Forest. Approximately 550 acres of these parcels are in Union County in the vicinity of McCoy Creek (160 acres), Burnt Corral Creek (90 acres), Pelican Creek (260 acres), and Five Points Creek (40 acres) in the Wallowa-Whitman National Forest. Approximately 16,240 acres of these parcels are in Wallowa County in the vicinity of Eden Ridge (380 acres) and the Wenaha River (760 acres) in the Umatilla National Forest and in the vicinity of Kuhn Ridge (1,020 acres), Joseph Creek (660 acres), Doe Creek (160 acres), Chesnimnus Creek (2,200 acres), Big Sheep Creek (260 acres), Imnaha River (8,950 acres) Cow Creek (940 acres), Lostine River (140 acres), Hurricane Creek (510 acres), Morgan Ridge (120 acres), and McGraw Creek (140 acres) in the Wallowa-Whitman National Forest. Approximately 320 acres of these parcels are in Wheeler County in the vicinity of Wineland Lake in the Umatilla National Forest.

The proposed exchange of lands may require amendments to the Land and Resource Management Plans for the Malheur, Umatilla, and Wallowa-Whitman National Forests. Pursuant to the regulations for land exchanges (36 CFR 254.3(f)): “Lands acquired by exchange that are located within areas having an administrative designation established through the land management planning process shall automatically become part of the area within which they are located, without further action by the Forest Service, and shall be managed in accordance with the laws, rules, and regulations, and land and resource management plan applicable to such area.” Accordingly, lands acquired within Congressionally Designated Areas such as Wilderness, Wild and Scenic Rivers, and National Recreation Areas would be respectively designated and managed consistently with the surrounding lands.

Possible Alternatives

A full range of alternatives to the proposed action, including a no-action alternative, will be considered in the environmental impact statement. The no-action alternative represents no change from the current pattern of land ownership, and it serves as the baseline for the comparison among the action alternatives. In addition to the proposed action and the no-action alternatives, the environmental impact statement will consider other reasonable alternatives regarding the number and location of parcels to exchange, including alternatives that respond to issues identified by the public during the scoping process.

Responsible Officials

The Responsible Officials are the Forest Supervisors for the Malheur, Umatilla, and Wallowa-Whitman National Forests. They will review all issues, alternatives, and environmental consequences associated with the analysis; consider all public comments and response; and comply with all policies, regulations, and laws in making a decision regarding the proposed exchange of lands documented in the Final Environmental Impact Statement for the Blue Mountain Land Exchange. The Responsible Officials will document their decision and their rationale for the decision in a Record of Decision. Their decision will be subject to public notice, review, comment, and appeal under the Forest Service Regulations for Notice, comment, and Appeal Procedures for National Forest System Projects and Activities at 36 CFR part 215.

Nature of Decision To Be Made

The Forest Service will determine if the lands to be exchanged are desirable in the public interest and suitable for inclusion in the National Forest System. Land exchanges are discretionary, voluntary real estate transactions between the federal and non-federal parties. The exchange can only be completed after the authorized officer determines that the exchange meets the requirements at 36 CFR 254.3(b): (1) The resource values and the public objectives served by the non-federal lands and interests to be acquired are equal to or exceed the resource values and public objectives served by the federal lands to be disposed, and (2) the intended use of the disposed federal lands will not substantially conflict with established management objective son adjacent federal lands, including Indian Trust Lands.

Lands will be exchanged on a value for value basis, based on current fair market value appraisals. The appraisal is prepared in accordance with the Uniform Appraisal Standards of Professional Appraisal Practice and the Uniform Appraisal Standards for Federal Land Acquisition. The appraisal prepared for the land exchange is reviewed by a qualified review appraiser to ensure that it is fair and complies with the appropriate standards. Under the Federal Land Policy and Management Act of 1976, all exchanges must be equal in value. Forest Service regulations at 36 CFR 254.3 require that exchanges must be of equal value or equalized pursuant to 36 CFR 254.12 by cash payment after making all reasonable efforts to equalize values by adding or deleting lands. If lands proposed for exchange are not equal in value, either party may make them equal by cash payment not to exceed 25 percent of the federal land value.

Preliminary Issues

Preliminary scoping indicates that there may be issues associated with public access, protected species, old-growth habitat, floodplain areas, structures and facilities, private lands within Congressionally designated areas, and Tribal interests. The proposed exchange may require amendments to the National Forest Land and Resource Management Plans for the Malheur, the Umatilla, and the Wallowa-Whitman National Forests.

Scoping Process

The Forest Service encourages full participation in the proposed land exchange, beginning with the scoping process. Scoping will include notice in the Malheur, Umatilla, and Wallowa-Whitman National Forests' Quarterly Schedule of Proposed Actions; distribution of letters to individuals, organizations, and agencies who have already indicated interest in land exchanges; communication with tribal interests; and publication of news releases in the Blue Mountain Eagle, the Eastern Oregoinian, and the Baker City Herald, the newspapers of record, respectively, for the Malheur, Umatilla, and Wallowa-Whitman National Forests. The news release will also be distributed to other local newspapers that serve areas affected by this proposal. Public meetings in the form of open houses will be scheduled, and notice of times and locations will be provided at a later date. The scoping process will include identifying key issues, exploring additional alternatives, and identifying potential environmental effects of the proposed action and the alternatives.

Comment Requested

The Forest Service is seeking comments from individuals, organizations, tribes, state and local agencies, and other federal agencies that may be interested in or affected by the proposed land exchange. All comments received in response to this notice, including the names and addresses of those who comment, will be considered part of the public record on this proposal and will be available for public inspection. The comments will be use din the preparation of the draft environmental impact statement.

The draft environmental impact statement is scheduled for distribution to the public in June 2003. The comment period on the draft statement will be 45 days. Comments on the draft statement should be as specific as possible. It is helpful if comments refer to specific pages or chapters of the draft statement. Comments may also address the adequacy of the draft statement or the merits of the alternatives formulated and discussed in the statement. Reviewers may wish to refer to the Council on Environmental Quality Regulations for implementing the procedural provisions of the National Environmental Policy Act at 40 CFR 1503.3 in addressing these points.

After the 45-day comment period ends, the comments will be analyzed and considered by the Forest Service in preparing the final environmental impact statement. The final environmental impact statement is scheduled for completing by October 2003. In the final statement, the Forest Service will respond to all substantive comments received during the public comment period.

The Forest Service believes it is important to give reviewers notice of several court rulings related to public participation in the environmental review process. First, reviewers of the draft environmental impact statements must structure their participation in the environmental review of the proposal so that it is meaningful and alerts an agency to the reviewer's position and contentions. Vermont Yankee Nuclear Power Corporation versus Natural Resources Defense Council, 435 US 519, 553 (1978). Also, environmental objections that could be raised at the draft environmental impact statement stage, but that are not raised until completion of the final environmental impact statement, may be waived or dismissed by the courts. City of Angoon versus Hodel, 803 F 2d 1016, 1022 (9th Cir, 1986) and Wisconsin Heritages, Incorporated versus Harris, 490 F Supp 1334, 1338 (ED Wis, 1980). Because of these court rulings, it is important that those interested in this proposed action participate by the close of the 45-day comment period, so substantive comments and objections are made available to the Forest Service at a time when it can be meaningfully consider them and respond to them in the final environmental impact statement.

Dated: July 25, 2002
Roger W. Williams,
Malheur National Forest.
Dated: July 25, 2002.
Jeff D. Blackwood,
Forest Supervisor, Umatilla National Forest.
Dated: July 25, 2002.
John C. Schuyler,
Deputy Forest Supervisor, Wallowa-Whitman National Forest.

[FR Doc. 02-19481 Filed 8-1-02; 8:45 am]

BILLING CODE 3410-11-M